DEPARTMENT OF ENERGY

Federal Energy Regulatory Commission

[Docket No. EG00-73-000]

Duke Energy Hidalgo, L.P.; Notice of Amended Application for Commission Determination of Exempt Wholesale Generator Status

February 1, 2000.

Take notice that on January 20, 2000, Duke Energy Hidalgo, L.P. filed an amendment to their application for exempt wholesale generator status filed on December 30, 1999.

Any person desiring to be heard concerning the amended application for exempt wholesale generator status should file a motion to intervene or comments with the Federal Energy Regulatory Commission, 888 First Street, NE, Washington, DC 20426, in accordance with Rules 211 and 214 of the Commission's Rules of Practice and Procedure (18 CFR 385.211 and 385.214). The Commission will limit its consideration of comments to those that concern the adequacy or accuracy of the amended application. All such motions and comments should be filed on or before February 11, 2000, and must be served on the applicant. Any person wishing to become a party must file a motion to intervene. Copies of this filing are on file with the Commission and are available for public inspection or on the internet at http://www.ferc.fed.us/online/rims.htm (please call (202) 208-2222 for assistance).

David P. Boergers,
Secretary.

[FR Doc. 00-2657 Filed 2-4-00; 8:45 am]

BILLING CODE 6717-01-M